SECURITIES AND EXCHANGE COMMISSION

[Release No. 34-83678/July 20, 2018]

Securities Exchange Act of 1934; Order Scheduling Filing of Statements on Review; in the Matter of the Investors Exchange LLC; for an Order Granting the Approval of Proposed Rule Change To Establish a New Optional Listing Category on the Exchange, “LTSE Listings on IEX” (File No. SR-IEX-2018-06)

On March 15, 2018, Investors Exchange LLC (the “Exchange” or “IEX”) filed with the Securities and Exchange Commission (“Commission”), pursuant to Section 19(b)(1) of the Securities Exchange Act of 1934 ¹ and Rule 19b-4 thereunder,² a proposed rule change to establish a new optional listing category on the Exchange, referred to as the “LTSE Listings on IEX” or “LTSE Listings.” The proposed rule change was published for comment in the Federal Register on April 2, 2018.³ On May 11, 2018, the Division of Trading and Markets, for the Commission pursuant to delegated authority, extended the time period for Commission action on the proposed rule change.⁴ On June 27, 2018, the Exchange submitted Amendment No. 1 to the proposed rule change.⁵ On June 29, 2018, the Division of Trading and Markets, for the Commission pursuant to delegated authority,⁶ approved the proposed rule change, as modified by Amendment No. 1.⁷

¹ 15 U.S.C. 78s(b)(1).

² 17 CFR 240.19b-4.

³ See Securities Exchange Act Release No. 82948 (March 27, 2018), 83 FR 14074 (April 2, 2018) (SR-IEX-2018-06).

⁴ See Securities Exchange Act Release No. 83217 (May 11, 2018), 83 FR 22998 (May 17, 2018).

⁵ See letter from Claudia Crowley, Chief Regulatory Officer, Investors Exchange LLC, dated June 27, 2018, available at https://www.sec.gov/comments/sr-iex-2018-06/iex201806-3956434-167066.pdf.

⁶ 17 CFR 200.30 3(a)(12).

⁷ See Securities Exchange Act Release No. 83558 (June 29, 2018).

Pursuant to Commission Rule of Practice 431,⁸ the Commission is reviewing the delegated action, and the June 29, 2018 order is stayed.

⁸ 17 CFR 201.431.

Accordingly, it is ordered, pursuant to Commission Rule of Practice 431, that by August 20, 2018, any party or other person may file any additional statement.

It is further ordered that the June 29, 2018 order approving the proposed rule change, as modified by Amendment No. 1 (SR-IEX-2018-06) shall remain stayed pending further order of the Commission.

By the Commission.
Brent J. Fields,
Secretary.

[FR Doc. 2018-15926 Filed 7-24-18; 8:45 am]

BILLING CODE 8011-01-P